DEPARTMENT OF HOME LAND SECURITY

Bureau of Immigration and Customs Enforcement

Agency Information Collection Activities: Comment Request

ACTION: Request OMB approval; exemption from NSEERS registration requirements (File No. OMB-40).

The Department of Homeland Security, Immigration and Customs Enforcement (ICE) has submitted the following information collection request to the Office of Management and Budget (OMB) for review and clearance in accordance with the Paperwork Reduction Act of 1995. The information collection was previously published in the Federal Register on November 28, 2003 at 68 FR 66846, allowing for a 60-day public comment period. No comments were received by the ICE on this proposed information collection.

The purpose of this notice is to allow an additional 30 days for public comments. Comments are encouraged and will be accepted until July 6, 2004. This process is conducted in accordance with 5 CFR 1320.10.

Written comments and/or suggestions regarding the items contained in this notice should be directed to the Office of Management and Budget, Attn: Desk Officer for Homeland Security, Office of Management and Budget Room 10235, Washington, DC 20503; telephone 202-395-7316. The Office of Management and Budget is particularly interested in comments which:

(1) Evaluate whether the proposed collection of information is necessary for the proper performance of the functions of the agency, including whether the information will have practical utility;

(2) Evaluate the accuracy of the agency's estimate of the burden of the proposed collection of information including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of currently approved collection.

(2) Title of the Form/Collection: Exemption from NSEERS Registration Requirements.

(3) Agency form number, if any, and the applicable component of the Department of Homeland Security sponsoring the collection: No Agency Form Number. File No. OMB-40. U.S., Immigration and Customs Enforcement.

(4) Affected public who will be asked or required to respond, as well as a brief abstract: Primary: Individuals and Households. This information collection allows an alien to seek an exemption from the NSEERS registration requirements by submitting a letter to the Department of Homeland Security containing specific information.

(5) An estimate of the total number of respondents and the amount of time estimated for an average respondent to respond: 5,800 responses at 30 minutes (.5 hours) per response.

(6) An estimate of the total public burden (in hours) associated with the collection: 2,900 annual burden hours.

If additional information is required contact: Mr. Richard A. Sloan, Director, Regulations and Forms Services, Citizenship and Immigration Services, Department of Homeland Security, Room 4034, 425 I Street, NW., Washington, DC 20536.

Dated: May 28, 2004.
Stephen Tarragon,
Senior Management Analyst.

[FR Doc. 04-12545 Filed 6-2-04; 8:45 am]

BILLING CODE 4410-10-M